DEPARTMENT OF COMMERCE

National Institute of Standards and Technology

Announcement of the American Petroleum Institute's Standards Activities

AGENCY: National Institute of Standards and Technology, Commerce.

ACTION: Notice.

SUMMARY: The American Petroleum Institute (API), with the assistance of other interested parties, continues to develop standards, both national and international, in several areas. This notice lists the standardization efforts currently being conducted by API committees. The publication of this notice by the National Institute of Standards and Technology (NIST) on behalf of API is being undertaken as a public service. NIST does not necessarily endorse, approve, or recommend the standards referenced.

ADDRESSES: American Petroleum Institute, 1220 L Street, NW., Washington, DC 20005; telephone (202) 682-8000, http://www.api.org.

FOR FURTHER INFORMATION CONTACT: All contact individuals listed in the SUPPLEMENTARY INFORMATION section of this notice may be reached at the American Petroleum Institute.

SUPPLEMENTARY INFORMATION:

Background

The American Petroleum Institute develops and publishes voluntary standards for equipment, materials, operations, and processes for the petroleum and natural gas industry. These standards are used by both private industry and by governmental agencies. All interested persons should contact the appropriate source as listed for further information.

Pipeline Committee

New Std 1163 ILI Systems Qualification

New Std 1164 SCADA Security

New Std 1165 SCADA Display

For Further Information Contact: Andrea Johnson, Standards Department, e-mail: johnsona@api.org.

Committee on Marketing

Std 2610 Design, Construction, Operation, Maintenance, and Inspection of Terminal and Tank Facilities

NEW API/IP RP 1540, Design Construction, Modification and Maintenance of Aircraft Fueling Facilities

New API/IP Std 1529 Aviation Fueling Hose

RP 1626 Recommended Practice for Storing and Handling Ethanol and Gasoline-ethanol Blends at Distribution Terminals and Service Stations.

For Further Information Contact: David Soffrin, Standards Department, e-mail: soffrind@api.org.

Committee on Refining

Corrosion & Materials:

RP 651 Cathodic Protection of Aboveground Petroleum Storage Tanks

RP 652 Lining of Aboveground Petroleum Storage Tanks

New RP 938-C Use of Duplex Stainless Steels in the Oil Refining Industry

Inspection:

Std 510 Pressure Vessel Inspection Code

RP 575 Inspection of Atmospheric and Low Pressure Storage Tanks

Pressure Vessel and Tanks:

Std 620 Design & Construction of Large, Welded, Low-Pressure Storage Tanks

Std 650 Welded Tanks for Oil Storage

Std 653 Tank Inspection, Repair, Alteration, and Reconstruction

Electrical Equipment:

New Std 547 General Purpose Form-wound Squirrel-cage Induction Motors larger than 250 HP

Std 541 Form-Wound Squirrel-cage Induction Motors 500 HP and Larger

Mechanical Equipment:

Std 672 Packaged, Integrally Geared Centrifugal Air Compressors for Petroleum, Chemical, and Gas Industry Services

Std 618 Reciprocating Compressors for Petroleum, Chemical, and Gas Industry Services

Std 619 Rotary Type Positive Displacement Compressors

Std 677 General Purpose Gear Units

Std 684 Tutorial on Rotor Dynamics and Balancing

Std 686 Machinery Installation and Installation Design

Std 610, National Adoption of ISO 13709, Centrifugal Pumps for Petroleum, Petrochemical and Natural Gas Industries

Std 682, National Adoption of ISO 21049, Pumps-Shaft Sealing Systems for Centrifugal and Rotary Pumps

Heat Transfer Equipment: None due in 2004

Piping:

Std 598 Valve Inspection and Testing

Std 609 Butterfly Valves: Double Flanged, Lug- and Wafer-Type

Std 594 Check Valves

Std 600, National Adoption of ISO 10434, Bolted Bonnet Steel Gate Valves

Std 602, National Adoption of ISO 15761, Compact Steel Gat Valves-Flanged, Threaded,

Welding, and Extended Body Ends

Pressure Relieving Systems:

RP 521 Guide for Pressure-Relieving and Depressuring Systems

Instrument & Control Systems:

RP 552 Transmission Systems

RP 554 Part 1 Process Instrumentation and Control

Technical Data Book—Petroleum Refining:

Electronic Version of the Technical Data Book—Petroleum Refining, Release 3.0

For Further Information Contact: David Soffrin, Standards Department, e-mail: soffrind@api.org.

Meetings/Conferences: The Spring Refining Meeting will be held at the Hyatt Regency Atlanta, Atlanta, Georgia, May 17-19, 2004. The Fall Refining Meeting will be held at the Manchester Grand Hyatt, San Diego, California, October 25-27, 2004. Interested parties may visit the API Web site at http://www.api.org/events for more information regarding participation in these meetings.

Committee on Safety and Fire Protection

RP 2001 Fire Protection in Refineries

RP 2026 Safe Access/Egress Involving Floating Roofs of Storage Tanks (possible reaffirmation)

RP 2030 Application of Water Spray Systems for Fire Protection in the Petroleum Industry (probable reaffirmation)

RP 2207 Preparing Tank Bottoms for Hot Work (possible reaffirmation)

RP 2214 Spark Ignition Properties of Hand Tools (probable reaffirmation)

RP 2217A Guidelines for Work in Inert Confined Spaces in the Petroleum Industry

RP 2218 Fireproofing Practices in Petroleum and Petrochemical Processing Plants (possible reaffirmation)

RP 2219 Safe Operation of Vacuum Trucks in Petroleum Service (possible reaffirmation)

RP 2220 Improving Owner and Contractor Safety Performance

RP 2221 Managers Guide to Implementing a Contractor Safety and Health Program

RP 2350 Overfill Protection for Petroleum Storage Tanks

For Further Information Contact: David Soffrin, Standards Department, e-mail: soffrind@api.org.

Committee on Petroleum Measurement

Manual of Petroleum Measurement Standards:

New Chapter 2.2E Tank Calibration—Manual Methods (National Adoption of ISO 12917-1)

New Chapter 2.2F Tank Calibration—Calibration of Horizontal Cylindrical Tanks by the Internal Electro-optical Distance-ranging Method (National Adoption of ISO 12917-2)

Chapter 4.1 Introduction to Proving Systems

New Chapter 4.9.1 Introduction to Determination of the Volume of Displacement and Tank Provers

New Chapter 4.9.2 Determination of the Volume of Displacement and Tank Provers by the Waterdraw Method of Calibration

New Chapter 4.9.3 Determination of the Volume of Displacement and Tank Provers by the Master Meter Method of Calibration

New Chapter 4.9.4 Determination of the Volume of Displacement and Tank Provers by the Gravimetric Method

New 12.1.3 Calculation Procedures for Liquefied Petroleum Gases (New document)

New Chapter 17.9 Vessel Experience Factors

New Chapter 17.10 Measurement of Refrigerated and Pressurized Cargo on Marine Tank Vessels

New MPMS Technical Report: Multiphase Flowmeters

Chapter 6.2 3rd Edition Loading Rack and Tank Truck Metering Systems for Non-LPG Products

For Further Information Contact: Jon Noxon, Standards Department, e-mail: noxonj@api.org.

API/ASTM/GPA Standards

MPMS Ch. 10.6/ASTM D1796 Water & Sediment in Fuel Oils by Centrifuge

MPMS Ch. 11.2.4/GPA TP-27/ASTM Temperature Correction for the Volume of NGL and LPG Tables 23E, 24E, 53E, 54E, 59E, 60E

MPMS Ch. 11.2.5/GPA TP-15/ASTM Simplified Vapor Pressure Correlation for Commercial NGLs

For Further Information Contact: Paula Watkins, Standards Department, e-mail: watkinsp@api.org.

Meetings/Conferences: The Spring Committee on Petroleum Measurement Meeting will take place at the Hyatt Regency Atlanta, Atlanta, Georgia, March 29-April 2, 2004. The Fall Committee on Petroleum Measurement Meeting will take place at the Wilshire Grand Hotel, Los Angeles, California, September 20-24, 2004. Interested parties may visit the API Web site at http://www.api.org/events for more information regarding participation in these meetings.

Committee on Exploration and Production

Production Equipment:

Spec 6A, 19th new edition, National Adoption of ISO 10423, Specification for Wellhead and Christmas Tree Equipment

Addendum, Spec 6D Specification for Pipeline Valves

Spec 6A718, 1st edition Specification of Nickel Base Alloy 718 (UNS N07718) for Oil and Gas Drilling and Production Equipment

Spec 14A, 11th edition, National Adoption of ISO 10432, Specification for Subsurface Safety Valve Equipment

Oil Country Tubular Goods:

Addendum, RP 5B1 Threading, Gauging, and Thread Inspection of Casing, Tubing and Line Pipe Threads

Spec 5L, 43rd edition Specification for Line Pipe

OCTG Tonnage Reports

Line Pipe Tonnage Reports

Offshore Structures, Drill Through Equipment, and Subsea Production Equipment:

RP 2A-WSD, new edition Planning, Designing and Constructing Fixed Offshore-Platforms-Working Stress Design

Spec 2C, new edition Specification for Offshore Cranes

Bulletin 2U, new edition Bulletin on Stability Design for Cylindrical Shells

Bulletin 2V, new edition Bulletin on Design of Flat Plate Structures

RP 2X, new edition Recommended Practice for Ultrasonic and Magnetic Examination of Offshore Structural Fabrication and Guidelines for Qualification of Technicians

RP 17H, 1st edition, National Adoption of ISO 13628-8, Recommended Practice for Remotely Operated Vehicle (ROVs) Interfaces on Subsea Production Systems

RP 17M, 1st edition, National Adoption of ISO 13628-9, Recommended Practice for Remotely Operated Tool (ROT) Intervention Systems

Drilling Operations and Equipment:

RP 4G, new edition Recommended Practice for Use and Procedures for inspections, Maintenance, and Repair of Drilling and Well Servicing Structures

Spec 9A, new edition, National Adoption of ISO 10425, Specification for Wire Rope

RP 10B, new edition, National Adoption of ISO 10426-2, Recommended Practice for Testing Well Cements

RP10X, new edition, National Adoption of ISO 10426-3, Recommended Practice for Deep Water Cementing

Spec 13A, new edition, National Adoption of ISO 13500, Specification for Drilling Fluid Materials

RP 13I, new edition, National Adoption of ISO 10416, Recommended Practice for Standard Procedures for Laboratory Testing Drilling Fluids

RP 13B-2, new edition, National Adoption of ISO 10414-2, Recommended Practice for Standard Procedures for Field Testing Oil-based Drilling Fluids

Spec 16A, new edition, National Adoption of ISO 13533, Specification for Drill-through Equipment

Spec 16C, new edition Specification for Choke and Kill Systems

Spec 16D, new edition Specification for Control Systems for Drilling Well Control Equipment

Spec 16F, new edition Specification for Marine Drilling Riser Equipment

RP 56/58/60 combine as adopt back of 13503-2 Recommended Practice for Frac Sands, Proppants, and Gravel Packing Materials

For Further Information Contact: Mike Spanhel, Standards Department, e-mail: spanhel@api.org.

Meetings/Conferences: The 2003 Summer Standardization Conference on Oilfield Equipment & Materials will take place at the Hyatt Regency Dallas, Dallas, Texas, June 14-18, 2004. Interested parties may visit the API Web site at http://www.api.org/events for more information regarding participation in this meeting.

Executive Committee on Drilling and Production Operations

RP59, RP on Well Control

RP75, RP on Safety and Environmental Management Program

New RP76, RP on Contractor Safety for Oil and Gas Drilling and Production Operations

For Further Information Contact: Tim Sampson, Upstream Department, e-mail: sampson@api.org.

For additional information on the overall API standards program, contact: David Miller, Standards Department, e-mail: miller@api.org.

Dated: February 4, 2004.
Arden L. Bement, Jr.,
Director.

[FR Doc. 04-2886 Filed 2-9-04; 8:45 am]

BILLING CODE 3510-13-P